DEPARTMENT OF ENERGY

Federal Energy Regulatory Commission

Combined Notice of Filings #1

Take notice that the Commission received the following electric corporate filings:

Docket Numbers: EC23-15-000.

Applicants: Georgia Power Company.

Description: Application for Authorization Under Section 203 of the Federal Power Act of Georgia Power Company under.

Filed Date: 10/28/22.

Accession Number: 20221028-5308.

Comment Date: 5 p.m. ET 11/18/22.

Docket Numbers: EC23-16-000.

Applicants: Great River Hydro, LLC, HQI US Holding LLC.

Description: Joint Application for Authorization Under Section 203 of the Federal Power Act of Great River Hydro, LLC, et al.

Filed Date: 10/28/22.

Accession Number: 20221028-5311.

Comment Date: 5 p.m. ET 11/18/22.

Take notice that the Commission received the following exempt wholesale generator filings:

Docket Numbers: EG23-16-000.

Applicants: CED Timberland Solar, LLC.

Description: CED Timberland Solar, LLC submits Notice of Self-Certification of Exempt Wholesale Generator Status.

Filed Date: 10/27/22.

Accession Number: 20221027-5166.

Comment Date: 5 p.m. ET 11/17/22.

Docket Numbers: EG23-17-000.

Applicants: Daggett Solar Power 3 LLC.

Description: Daggett Solar Power 3 LLC submits Notice of Self-Certification of Exempt Wholesale Generator Status.

Filed Date: 10/26/22.

Accession Number: 20221026-5239.

Comment Date: 5 p.m. ET 11/16/22.

Docket Numbers: EG23-18-000.

Applicants: Old Gold Energy Center, LLC.

Description: Old Gold Energy Center, LLC submits Notice of Self-Certification of Exempt Wholesale Generator Status.

Filed Date: 10/28/22.

Accession Number: 20221028-5115.

Comment Date: 5 p.m. ET 11/18/22.

Take notice that the Commission received the following electric rate filings:

Docket Numbers: ER10-1484-027; ER12-2381-013; ER13-1069-016; ER14-1140-003.

Applicants: Inspire Energy Holdings, LLC, MP2 Energy LLC, MP2 Energy NE LLC, Shell Energy North America (US), L.P.

Description: Notice of Non-Material Change in Status of Inspire Energy Holdings, LLC, et al.

Filed Date: 10/28/22.

Accession Number: 20221028-5292.

Comment Date: 5 p.m. ET 11/18/22.

Docket Numbers: ER10-1776-003; ER10-2822-021; ER10-2824-003; ER10-2825-004; ER10-2957-004; ER10-2995-004; ER10-2996-003; ER10-2998-003; ER10-2999-003; ER10-3000-003; ER10-3009-005; ER10-3013-004; ER10-3029-003; ER16-1250-013; ER19-2360-002; ER21-2272-001; ER21-2748-001; ER21-2847-001.

Applicants: Montague Solar, LLC, Lund Hill Solar, LLC, Golden Hills Wind Farm, LLC, Montague Wind Power Facility, LLC, Avangrid Renewables, LLC, Klondike Wind Power III LLC, Star Point Wind Project LLC, Pebble Springs Wind LLC, Klondike Wind Power II LLC, Klondike Wind Power LLC, Klamath Generation LLC, Klamath Energy LLC, Juniper Canyon Wind Power LLC, Hay Canyon Wind LLC, Big Horn II Wind Project LLC, Big Horn Wind Project LLC, Atlantic Renewable Projects II LLC, Leaning Juniper Wind Power II LLC.

Description: Notice of Change in Status of Avangrid Renewables, LLC, et al.

Filed Date: 10/27/22.

Accession Number: 20221027-5185.

Comment Date: 5 p.m. ET 11/17/22.

Docket Numbers: ER10-1882-007; ER12-1933-015; ER12-1934-013; ER22-1574-002; ER22-1575-001; ER22-1576-002; ER22-1578-002.

Applicants: WPL Wood County Solar, LLC, WPL North Rock Solar, LLC, WPL Crawfish River Solar, LLC, WPL Bear Creek Solar, LLC, Wisconsin Power and Light Company, Interstate Power and Light Company, Wisconsin River Power Company.

Description: Notice of Change in Status of Interstate Power and Light Company, et al.

Filed Date: 10/28/22.

Accession Number: 20221028-5305.

Comment Date: 5 p.m. ET 11/18/22.

Docket Numbers: ER10-2131-027; ER10-2137-027; ER10-2138-028; ER10-2139-028; ER10-2140-027; ER10-2141-027; ER14-2187-021; ER14-2799-018; ER21-258-004.

Applicants: Todd Solar LLC, Beech Ridge Energy Storage LLC, Grand Ridge Energy Storage LLC, Grand Ridge Energy V LLC, Grand Ridge Energy IV LLC, Grand Ridge Energy III LLC, Grand Ridge Energy II LLC, Beech Ridge Energy LLC, Grand Ridge Energy LLC.

Description: Notice of Change in Status of Beech Ridge Energy LLC, et al.

Filed Date: 10/28/22.

Accession Number: 20221028-5254.

Comment Date: 5 p.m. ET 11/18/22.

Docket Numbers: ER10-2133-025; ER11-3872-026; ER21-1838-003.

Applicants: Orangeville Energy Storage LLC, Stony Creek Energy LLC, Sheldon Energy LLC.

Description: Notice of Change in Status of Orangeville Energy Storage LLC, et al.

Filed Date: 10/28/22.

Accession Number: 20221028-5233.

Comment Date: 5 p.m. ET 11/18/22.

Docket Numbers: ER10-2136-019.

Applicants: Invenergy Cannon Falls LLC.

Description: Notice of Change in Status of Invenergy Cannon Falls LLC.

Filed Date: 10/28/22.

Accession Number: 20221028-5229.

Comment Date: 5 p.m. ET 11/18/22.

Docket Numbers: ER10-2405-013; ER10-2738-012; ER11-4267-019; ER15-2631-009; ER16-2703-006; ER20-2379-004; ER22-2513-001.

Applicants: Deerfield Wind Energy 2, LLC, Sugar Creek Wind One LLC, Deerfield Wind Energy, LLC, Odell Wind Farm, LLC, Algonquin Energy Services Inc., The Empire District Electric Company, High Prairie Wind Farm II, LLC.

Description: Notice of Non-Material Change in Status of Deerfield Wind Energy, LLC, et al.

Filed Date: 10/28/22.

Accession Number: 20221028-5284.

Comment Date: 5 p.m. ET 11/18/22.

Docket Numbers: ER10-3069-010; ER10-3070-010.

Applicants: Alcoa Power Marketing LLC, Alcoa Power Generating Inc.

Description: Notice of Change in Status of Alcoa Power Generating Inc., et al.

Filed Date: 10/28/22.

Accession Number: 20221028-5296.

Comment Date: 5 p.m. ET 11/18/22.

Docket Numbers: ER11-2558-005.

Applicants: Niagara Mohawk Power Corporation.

Description: Notice of Change in Status of Niagara Mohawk Power Corporation.

Filed Date: 10/28/22.

Accession Number: 20221028-5273.

Comment Date: 5 p.m. ET 11/18/22.

Docket Numbers: ER11-4044-030; ER11-4046-029; ER21-2715-003; ER21-2716-003; ER22-2046-001.

Applicants: Sapphire Sky Wind Energy LLC, Fairbanks Solar Holdings LLC, Fairbanks Solar Energy Center LLC, Gratiot County Wind II LLC, Gratiot County Wind LLC.

Description: Notice of Change in Status of Fairbanks Solar Energy Center LLC, et al.

Filed Date: 10/28/22.

Accession Number: 20221028-5240.

Comment Date: 5 p.m. ET 11/18/22.

Docket Numbers: ER15-103-011; ER18-140-009; ER22-2144-002.

Applicants: Invenergy Nelson Expansion LLC, Lackawanna Energy Center LLC, Invenergy Nelson LLC.

Description: Notice of Change in Status of Invenergy Nelson LLC, et al.

Filed Date: 10/28/22.

Accession Number: 20221028-5231.

Comment Date: 5 p.m. ET 11/18/22.

Docket Numbers: ER16-1720-021.

Applicants: Invenergy Energy Management LLC.

Description: Notice of Change in Status of Invenergy Energy Management LLC.

Filed Date: 10/28/22.

Accession Number: 20221028-5225.

Comment Date: 5 p.m. ET 11/18/22.

Docket Numbers: ER20-1713-003.

Applicants: Evergy Kansas Central, Inc.

Description: Compliance filing: Order No. 864 Compliance Update to be effective 1/27/2020.

Filed Date: 10/28/22.

Accession Number: 20221028-5109.

Comment Date: 5 p.m. ET 11/18/22.

Docket Numbers: ER20-2040-004.

Applicants: Southwest Power Pool, Inc.

Description: Compliance filing: Prairie Wind Transmission LLC submits tariff filing per 35: Prairie Wind—Order No. 864 Amended Compliance Filing to be effective 1/27/2020.

Filed Date: 10/28/22.

Accession Number: 20221028-5105.

Comment Date: 5 p.m. ET 11/18/22.

Docket Numbers: ER20-2041-004.

Applicants: Southwest Power Pool, Inc.

Description: Compliance filing: Evergy Metro, Inc. submits tariff filing per 35: Evergy Metro, Inc.—Order No. 864 Amended Compliance Filing to be effective 1/27/2020.

Filed Date: 10/28/22.

Accession Number: 20221028-5100.

Comment Date: 5 p.m. ET 11/18/22.

Docket Numbers: ER20-2042-004.

Applicants: Southwest Power Pool, Inc.

Description: Compliance filing: Evergy Missouri West, Inc. submits tariff filing per 35: Evergy Missouri West—Order No. 864 Amended Compliance Filing to be effective 1/27/2020.

Filed Date: 10/28/22.

Accession Number: 20221028-5099.

Comment Date: 5 p.m. ET 11/18/22.

Docket Numbers: ER20-2044-005.

Applicants: Southwest Power Pool, Inc.

Description: Compliance filing: Evergy Kansas Central, Inc. submits tariff filing per 35: Evergy Kansas Central—Order No. 864 Amended Compliance Filing to be effective 1/27/2020.

Filed Date: 10/28/22.

Accession Number: 20221028-5162.

Comment Date: 5 p.m. ET 11/18/22.

Docket Numbers: ER20-686-009.

Applicants: Tri-State Generation and Transmission Association, Inc.

Description: Compliance filing: Compliance Filing to be effective 11/1/2022.

Filed Date: 10/28/22.

Accession Number: 20221028-5180.

Comment Date: 5 p.m. ET 11/18/22.

Docket Numbers: ER21-1225-004; ER22-867-001.

Applicants: Long Ridge Retail Electric Supplier LLC, Long Ridge Energy Generation LLC.

Description: Notice of Non-Material Change in Status of Long Ridge Energy Generation LLC, et al.

Filed Date: 10/28/22.

Accession Number: 20221028-5298.

Comment Date: 5 p.m. ET 11/18/22.

Docket Numbers: ER21-2137-006.

Applicants: IR Energy Management LLC.

Description: Notice of Change in Status of IR Energy Management LLC.

Filed Date: 10/28/22.

Accession Number: 20221028-5197.

Comment Date: 5 p.m. ET 11/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2022.
Debbie-Anne A. Reese,
Deputy Secretary.

[FR Doc. 2022-23938 Filed 11-2-22; 8:45 am]

BILLING CODE 6717-01-P